ENVIRONMENTAL PROTECTION AGENCY

40 CFR Part 81

[EPA-HQ-OAR-2022-0195; FRL-9631-02-OAR]

RIN 2060-AV66

Intended Air Quality Redesignation for the 2008 Lead National Ambient Air Quality Standards; Canton, Ohio; Stark County, Ohio: Notice of Availability and Public Comment Period

AGENCY: Environmental Protection Agency (EPA).

ACTION: Notice of availability and public comment period.

SUMMARY: The Environmental Protection Agency (EPA) is providing notice of our intent to redesignate a portion of Canton, Ohio in northeastern Stark County from “unclassifiable/attainment” to “nonattainment” for the 2008 National Ambient Air Quality Standards (NAAQS) for lead (Pb). The EPA's intended redesignation of this portion of the Canton, Ohio area is based on recorded violations of the Pb NAAQS at Ohio Environmental Protection Agency's (Ohio EPA) Republic Steel ambient air monitoring site located in Canton, Ohio, and additional relevant air quality information. If the redesignation to nonattainment is finalized, the state of Ohio would be required to undertake certain planning requirements to reduce Pb concentrations within this nonattainment area, including, but not limited to, the requirement to submit within 18 months of redesignation, a revision to the Ohio state implementation plan (SIP) that provides for attainment of the Pb standards as expeditiously as practicable, but no later than 5 years after the date of redesignation to nonattainment.

Notice is hereby given that the EPA (Agency) has posted on our public electronic docket and internet website the intended redesignation for relevant portion of the Canton, Ohio (Stark County, OH) area under the 2008 Pb NAAQS. The EPA invites the public to review and provide input on our intended redesignation during the comment period specified in the DATES section. The EPA notified the state of Ohio of our intended redesignation action on or about April 26, 2022. The EPA intends to make its final redesignation determination for the Canton, Ohio area approximately 240 days from the date the Agency notified the state of its intended designation, that is, in December 2022.

DATES: Comments must be received on or before June 2, 2022. Please refer to SUPPLEMENTARY INFORMATION for additional information on the comment period.

ADDRESSES: Submit your comments, identified by Docket ID No. EPA-HQ-OAR-2022-0195, at http://www.regulations.gov. Follow the online instructions for submitting comments. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov, as there may be a delay in processing mail and faxes. Hand deliveries and couriers may be received by scheduled appointment only. For further information on EPA Docket Center services and the current status, please visit us online at https://www.epa.gov/dockets.

Once submitted, comments cannot be edited or removed from https://www.regulations.gov. The EPA may publish any comment received to our public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., comments hosted on the Web, Cloud, or other file sharing system). For additional submission methods, the full EPA public comment policy, information about CBI or multimedia submissions, and general guidance on making effective comments, please visit https://www.epa.gov/dockets/commenting-epa-dockets.

FOR FURTHER INFORMATION CONTACT: For general questions concerning this action, please contact Andrew Leith, U.S. EPA, Office of Air Quality Planning and Standards, Air Quality Policy Division, C541A, Research Triangle Park, NC 27709, telephone (919) 541-1069, email at leith.andrew@epa.gov. The following EPA Regional office contact can answer questions specific to the Canton, Ohio area:

Regional Office Contacts:

Region V—Alisa Liu (312) 353-3193, email at liu.alisa@epa.gov

Regional office | Affected state
EPA Region 5, 77 West Jackson Blvd., Chicago, IL 60604 | Ohio.

Although the EPA Region 5 office may be closed, or operating during limited hours, to reduce the risk of transmitting COVID-19, staff remain available via telephone and email. The EPA encourages the public to review our recent letter notifying Ohio of our intended redesignation action, and the associated area-specific technical support information online at https://www.epa.gov/lead-designations and in the public docket for these lead designations at http://www.regulations.gov under Docket ID No. EPA-HQ-OAR-2022-0195.

SUPPLEMENTARY INFORMATION: The information in this document is organized as follows:

I. Purpose of Action and Instructions for Submitting Public Comments

II. The 2008 Pb NAAQS

III. Designations for the 2008 Pb NAAQS

IV. Applicable Regulatory Provisions

V. Monitoring Network Considerations

VI. Canton, Ohio Ambient Air Monitoring Site

VII. Pb Data Considerations

VIII. The EPA's Intended Decision To Address Monitored Pb Violations in the Canton, Ohio Area Through Redesignation

I. Purpose of Action and Instructions for Submitting Public Comments

The purpose of this notice of availability is to solicit input from interested parties on the EPA's notification to the state of Ohio of our intended redesignation determination for the Canton, Ohio area (Stark County, Ohio) for the 2008 Pb NAAQS. The EPA's notification letter and the supporting technical analyses can be found at https://www.epa.gov/lead-designations and also in the public docket for this action at https://www.regulations.gov under Docket ID No. EPA-HQ-OAR-2022-0195.

The EPA invites public input regarding the Canton, OH area during the 30-day comment period provided in this notice. To receive full consideration, input from the public must be submitted to the docket by June 2, 2022. This notice and opportunity for public comment does not affect any rights or obligations of any state, or tribe, or of the EPA, which might otherwise exist pursuant to the CAA section 107(d).

CAA section 107(d)(3) provides a process for air quality redesignations that involves recommendations by affected states, territories, and tribes to the EPA and responses from the EPA to those parties, prior to the EPA promulgating final area redesignation decisions. The EPA is not required under the CAA section 107(d)(3) to seek public comment during the redesignations process, but we are electing to do so for this area with respect to the 2008 Pb NAAQS to gather additional information for the EPA to consider before making final redesignation decisions for the specific area addressed.

1. Submitting CBI. Do not submit CBI information to the EPA through https://www.regulations.gov or email. Clearly mark the part or all of the information that you claim to be CBI. For CBI in a disk or CD ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2. Send or deliver information identified as CBI only to the following address: Tiffany Purifoy, OAQPS CBI Officer, U.S. EPA, Office of Air Quality Planning and Standards, Mail Code C404-02, Research Triangle Park, NC 27711, Attention Docket ID No. EPA-HQ-OAR-2022-0195. There will be a delay in confirming receipt of CBI packages, because the EPA-RTP office is closed to reduce the risk of transmitting COVID-19. Due to the office closure, EPA is also requesting that parties notify the OAQPS Document Control Officer via telephone, (919) 541-0878, or email at purifoy.tiffany@epa.gov when mailing information identified as CBI.

2. Tips for Preparing Your Comments. When submitting comments, remember to:

• Identify the rulemaking by docket number and other identifying information (subject heading, Federal Register date and page number).

• Follow directions.

• Explain why you agree or disagree; suggest alternatives and substitute language for your requested changes.

II. The 2008 Pb NAAQS

Under section 109 of the Clean Air Act (CAA or Act), the EPA has established primary and secondary NAAQS for certain pervasive air pollutants (referred to as “criteria pollutants”) and conducts periodic reviews of the NAAQS to determine whether they should be revised or whether new NAAQS should be established. The primary NAAQS represent ambient air quality standards, the attainment and maintenance of which the EPA has determined, including a margin of safety, are requisite to protect the public health. The secondary NAAQS represent ambient air quality standards, the attainment and maintenance of which the EPA has determined are requisite to protect the public welfare from any known or anticipated adverse effects associated with the presence of such air pollutant in the ambient air.

Under the CAA, the EPA must establish NAAQS for criteria pollutants, including Pb. Lead is generally emitted in the form of particles that are deposited in water, soil, and dust. People may be exposed to Pb by inhaling it or by ingesting Pb-contaminated food, water, soil, or dust. Once in the body, Pb is quickly absorbed into the bloodstream and can result in a broad range of adverse health effects including damage to the central nervous system, cardiovascular function, kidneys, immune system, and red blood cells. Children are particularly vulnerable to Pb exposure, in part because they are more likely to ingest Pb and in part because their still-developing bodies are more sensitive to the effects of Pb. The harmful effects to children's developing nervous systems (including their brains) arising from Pb exposure may include intelligence quotient (IQ) ¹ loss, poor academic achievement, long-term learning disabilities, and an increased risk of delinquent behavior.²

¹ IQ is a score created by dividing a person's mental age score, obtained by administering an intelligence test, by the person's chronological age, both expressed in terms of years and months. “Glossary of Important Assessment and Measurement Terms,” Philadelphia, PA: National Council on Measurement in Education. 2016.

² Depending on the level of exposure, lead can adversely affect the nervous system, kidney function, immune system, reproductive and developmental systems and the cardiovascular system. For more information regarding the health effects of Pb exposure, see 73 FR 66964, November 12, 2008, or http://www.epa.gov/airquality/lead/health.html.

The EPA first established primary and secondary Pb standards in 1978 at 1.5 micrograms per cubic meter (µg/m³) as a quarterly average.³ Based on new health and scientific data, on October 15, 2008, the EPA revised the federal Pb standards to 0.15 µg/m³ and revised the averaging time for the standards.⁴ Since the primary and secondary Pb standards are the same, we refer to them hereafter in this document using the singular Pb standard or NAAQS. A violation of the 2008 Pb NAAQS occurs if any arithmetic 3-month mean concentration is greater than 0.15 µg/m³.⁵

³ 43 FR 46246 (October 5, 1978).

⁴ 73 FR 66964 (November 12, 2008).

⁵ 40 CFR 50.16.

III. Designations for the 2008 Pb NAAQS

Following promulgation of any new or revised NAAQS, the EPA is required by CAA section 107(d) to designate areas throughout the nation as attaining or not attaining the NAAQS. The EPA initially designated all areas of the country as “unclassifiable,” “unclassifiable/attainment,” or “nonattainment” for the 2008 Pb NAAQS in two rounds on November 16, 2010, and November 8, 2011. In the November 8, 2011, action, the EPA designated Stark County, along with the remaining areas of Ohio, as unclassifiable/attainment.⁶

⁶ See 75 FR 71033 (November 22, 2010); 76 FR 72097 (November 22, 2011).

Pursuant to CAA section 107(d), the EPA must designate as “nonattainment” those areas that violate the NAAQS and those nearby areas that contribute to violations. Once an area has been designated, the EPA Administrator, under CAA section 107(d)(3), may at any time notify a state that a designation should be revised. 42 U.S.C. 7407(d)(3).

In 2021, the EPA determined that quality-assured, certified monitoring data collected during 2017-2020 at the Ohio EPA ambient air monitoring site located at 3150 Georgetown Road NE in Canton, Ohio (Republic Steel ambient air monitoring site), showed that the area was violating the Pb NAAQS. Accordingly, consistent with CAA section 107(d)(3)(A), the EPA notified the Governor of Ohio in a letter dated April 26, 2022, of our intent to redesignate the relevant portion of the Canton, Ohio area as “nonattainment” for the 2008 Pb NAAQS.

IV. Applicable Regulatory Provisions

A determination of whether an area's air quality meets applicable standards is generally based upon the most recent 3 years of complete, quality-assured data gathered at established state and local air monitoring stations (SLAMS) and entered into the EPA's Air Quality System (AQS) database.⁷ Data from ambient air monitors operated by state and local agencies in compliance with the EPA monitoring requirements must be submitted to AQS.⁸ Monitoring agencies annually certify that these data are accurate to the best of their knowledge.⁹ All data are reviewed to determine the area's air quality status for Pb in accordance with 40 CFR part 50, Appendix R.

⁷ AQS is the EPA's repository of ambient air quality data.

⁸ 40 CFR 58.16.

⁹ 40 CFR 58.15.

Under the EPA regulations in 40 CFR 50.16 and in accordance with 40 CFR part 50 Appendix R, the 2008 Pb NAAQS is met when the design value is less than or equal to 0.15 µg/m³ at each eligible monitoring site within the area. The Pb design value at each eligible monitoring site is the maximum valid 3-month arithmetic mean Pb concentration from the 38-month period consisting of the most recent 3-year calendar period plus two previous months. The 3-month mean Pb concentrations are rounded to the nearest hundredth µg/m³ for comparison to the NAAQS. Data completeness requirements for a given 3-month period are met if the average of the data capture rate of the three constituent monthly means is greater than or equal to 75 percent.¹⁰

¹⁰ See 40 CFR part 50, Appendix R sections (1)c, 4(c), and 5(b).

V. Monitoring Network Considerations

Section 110(a)(2)(B)(i) of the CAA requires states to establish and operate air monitoring networks to compile data on ambient air quality for all criteria pollutants. The EPA's monitoring requirements are specified by regulation in 40 CFR part 58. These requirements are applicable to state, and where delegated, local air monitoring agencies that operate criteria pollutant monitors. The regulations in 40 CFR part 58 establish specific requirements for operating air quality surveillance networks to measure ambient concentrations of Pb, including requirements for measurement methods, network design, quality assurance procedures, and in the case of large urban areas, the minimum number of monitoring sites designated as SLAMS.

In sections 4.4 and 4.5 of Appendix D to 40 CFR part 58, the EPA specifies minimum monitoring requirements for Pb, respectively, to operate at SLAMS. SLAMS produce data that are eligible for comparison with the NAAQS, and therefore, the monitor must be an approved federal reference method (FRM), federal equivalent method (FEM), or approved regional method (ARM) monitor.

The minimum number of required Pb SLAMS is described in section 4.5 of Appendix D to 40 CFR part 58. There must be at least one source-oriented SLAMS site located to measure the maximum Pb concentration in ambient air resulting from each non-airport Pb source that emits 0.50 or more tons per year (tpy) and from each airport that emits 1.0 tpy or more based on either the most recent National Emission Inventory (NEI) or other scientifically justifiable methods and data.

According to the 2017 NEI, one source in Stark County, Ohio exceeded the 0.50 tpy threshold and therefore required source-oriented Pb monitoring: The Republic Steel plant located at 2633 Eighth Street NE in Canton, Ohio (Republic Steel).¹¹ Republic Steel is a steel manufacturer that manufactures leaded steel and other steel products.

¹¹ Ohio facility-level Pb emissions data from the 2017 NEI may be accessed on the EPA NEI website at https://www.epa.gov/air-emissions-inventories/2017-national-emissions-inventory-nei-data.

VI. Canton, Ohio Ambient Air Monitoring Site

On June 6, 2017, an ambient air monitoring site was installed and began operating in Stark County to measure concentrations of Pb and other toxic metals. Ohio EPA, through its partnership with the Canton City Public Health Department, installed a special purpose monitor to meet the requirements of a permit ¹² issued on December 12, 2016, to Republic Steel as part of operational changes made to its plant at 2633 Eighth Street NE in Canton, Ohio.

¹² Ohio EPA Air Pollution Permit-to-Install (PTI), Permit Number: P0121793, Facility ID: 1576050694, Republic Steel. http://wwwapp.epa.ohio.gov/dapc/permits_issued/1499790.pdf.

In April 2019, Ohio EPA converted the designated primary Pb sampler at the Republic Steel ambient air monitoring site from a special purpose monitor (SPM) to a SLAMS monitor. The conversion was made as a result of Ohio EPA's 2017 emissions inventory, which indicated that Republic Steel's Pb emissions were at 0.81 tpy, which exceeds the source-oriented 0.50 tpy monitoring threshold in 40 CFR part 58 Appendix D. The EPA requires SLAMS monitors to collect Pb samples at a minimum frequency of 1-in-6 days and those data be reported to the EPA's AQS. Ohio EPA continued to also collect SPM samples to sample air quality specifically during leaded production at the Republic Steel plant; however, the SPM monitoring data is not reported to the EPA's AQS. Ohio EPA posts the SLAMS and SPM data on its website.¹³

¹³ Ohio EPA, Air Pollution Control, Reports & Data, Special Sampling Projects. https://epa.ohio.gov/wps/portal/gov/epa/divisions-and-offices/air-pollution-control/reports-and-data/special-sampling-projects.

Two ambient air quality monitors (Parameter Occurrence Code (POC 1, POC 4) at the Republic Steel ambient air monitoring site measure ambient concentrations on a microscale level of 0 to 100 meters with a staggered schedule. POC 1 operates on the EPA sampling schedule of 1-in-6 days, and POC 4 operates on a randomized schedule. The POC is used to distinguish different instruments that measure the same parameter at the same site.

VII. Pb Data Considerations

In accordance with Appendix R to 40 CFR part 50, compliance with the Pb NAAQS is determined based on data from 36 consecutive valid 3-month periods (i.e., 38 months, or a 3-year calendar period and the preceding November and December). As detailed in 40 CFR part 50 Appendix R section 4(c)(i), a 3-month mean Pb value is determined to be valid (i.e., meets data completeness requirements) if the average of the data capture rate of the three constituent monthly means is greater than or equal to 75 percent.

Under 40 CFR 58.15, monitoring agencies must certify, on an annual basis, data collected at all SLAMS and at all FRM, FEM, and ARM special purpose monitor stations that meet the EPA quality assurance requirements. In doing so, monitoring agencies must certify that the previous year of ambient concentration and quality assurance data are completely submitted to AQS and that the ambient concentration data are accurate to the best of their knowledge. Ohio EPA annually certifies that the data it submits to AQS are quality-assured, including data collected by Ohio EPA at the Republic Steel monitoring site.

We have evaluated the completeness of these data in accordance with the requirements of 40 CFR part 50 Appendix R. The data collected by Ohio EPA at the Republic Steel ambient air monitoring site meet this completeness criterion for each 3-month period from November 2018-December 2020.

Table 1 presents a summary of the latest available quality-assured Pb monitoring data from the Republic Steel ambient air monitoring site. A map showing the location of the monitor is included in the EPA's Technical Support Document (EPA TSD), contained in the docket for this rulemaking.

Table 1—Ambient Air Quality Monitoring Data and Pb Design Values From Ohio EPA's Republic Steel Ambient Air Monitoring Site
Monitor | Maximum Pb 3-month rolling average * (μg/m³) (number of complete months in parentheses): 2017 | Maximum Pb 3-month rolling average * (μg/m³) (number of complete months in parentheses): 2018 | Maximum Pb 3-month rolling average * (μg/m³) (number of complete months in parentheses): 2019 | Maximum Pb 3-month rolling average * (μg/m³) (number of complete months in parentheses): 2020 | Pb design value * (μg/m³): 2017-2019 | Pb design value * (μg/m³): 2018-2020
AQS 39-151-0024: Republic Steel, 3150 Georgetown Road NE, Canton, Ohio | 0.11 (5) | 0.20 (12) | 0.21 (12) | 0.13 (12) | 0.21 | 0.21

The EPA considered the Pb NAAQS design value for the Republic Steel ambient air monitoring site in Stark County by assessing the most recent 3 consecutive years (i.e., 2018-2020) and two previous months of quality-assured, certified ambient air quality data in the EPA's AQS using data from FRM and/or FEM monitors that are sited and operated in accordance with 40 CFR parts 50 and 58. Data collected at the Republic Steel monitoring site indicate that the 2018-2020 design value representative of the Stark County area is 0.21 μg/m³. With a design value of 0.21 μg/m³, the Republic Steel ambient air monitoring site shows a violation of the 2008 Pb NAAQS of 0.15 μg/m³ for 2018-2020.

VIII. The EPA's Intended Decision To Address Monitored Pb Violations in the Canton, Ohio Area Through Redesignation

The CAA provides the EPA with the authority to change the designation of, or “redesignate,” areas in light of changes in circumstances. More specifically, the EPA has the authority under CAA section 107(d)(3) to redesignate areas (or portions thereof) on the basis of air quality data, planning and control considerations, or any other air quality-related considerations. Stark County shows a violation of the 2008 Pb NAAQS based on data collected during 2018-2020, and, therefore, under CAA section 107(d)(3), the EPA can notify the state of its intent to redesignate to nonattainment all or some of Stark County and possibly additional areas in surrounding counties. In this action, EPA is providing notice of its intent to redesignate only part of Stark County to nonattainment.

Under CAA section 107(d)(3), the EPA Administrator may at any time notify the Governor of any State that available information indicates that the designation of any area or portion of an area within the State should be revised. For purposes of this intended redesignations action, EPA is following the same analytical steps applied in the initial area designations process following promulgation of a new or revised NAAQS. That is, under CAA section 107(d)(1)(A)(i), the statutory authority for initial area designations, EPA must designate as nonattainment any area that violates the NAAQS and any nearby area that contributes to ambient air quality in the violating area. Air quality data from 2018-2020 indicate that ambient Pb concentrations in Stark County do not meet the NAAQS, and, therefore, some area in Stark County and possibly additional areas in surrounding counties must be redesignated as nonattainment. The absence of monitored violations in nearby counties is not a sufficient reason to eliminate nearby counties as candidates for nonattainment status.

The technical analysis identified the monitor that was showing a violation of the standards (“violating monitor”) and evaluated nearby areas for contributions to ambient Pb concentrations in the area. To determine the boundaries of an area where violations support a nonattainment designation, the 2008 Final Rule for the Pb NAAQS adopted guidance (2008 EPA Pb Guidance) stated that the perimeter of a county containing the violating monitor would be the initial presumptive boundary for nonattainment areas. If the intended boundaries are smaller than the full county, the EPA requires a demonstration to show that violations are not occurring in the excluded portions of the county and that the excluded portions are not source areas that contribute to the observed violations. To justify establishing either a larger or smaller area, the 2008 EPA Pb Guidance indicated the following eight factors should be considered.¹⁴

¹⁴ 73 FR 67033 (November 12, 2008).

(1) Air quality in potentially included versus excluded areas;

(2) Emissions in areas potentially included versus excluded from the nonattainment area;

(3) Level of control of emission sources;

(4) Population density and degree of urbanization including commercial development in included versus excluded areas;

(5) Expected growth (including extent, pattern, and rate of growth);

(6) Meteorology (weather/transport patterns);

(7) Geography/topography (mountain ranges or other air basin boundaries); and

(8) Jurisdictional boundaries (e.g., counties, air districts, reservations, etc.).

In addition to an analysis of the eight factors above, states can choose to recommend Pb nonattainment boundaries by using one, or a combination of the following techniques:

• Qualitative analysis;

• Spatial interpolation of air quality monitoring data; or

• Air quality simulation by dispersion modeling.¹⁵

¹⁵ 73 FR 67033 (November 12, 2008).

The EPA's detailed evaluation of the violating monitoring site, contributing sources, and intended area boundaries based on the weight of evidence of the previously identified factors is included in the TSD, which is located in the docket for this intended redesignations action. EPA's intended boundaries of the relevant area encompass the portions of Stark County that are bounded on the north by State Route OH-153 (12th Street NE; Mahoning Road), on the east by Broadway Avenue, on the south by State Route OH-172 (Tucarawas Street E; Lincoln Street E), and the west by State Route OH-43—Northbound (Cherry Avenue NE). A map showing the boundaries of our intended nonattainment area for Canton, Ohio is included in the TSD.

Panagiotis E. Tsirigotis,
Director, Office of Air Quality Planning & Standards.

[FR Doc. 2022-09405 Filed 5-2-22; 8:45 am]

BILLING CODE 6560-50-P